NUCLEAR REGULATORY COMMISSION

[NRC-2018-0162]

Radiation Safety Surveys at Medical Institutions

AGENCY: Nuclear Regulatory Commission.

ACTION: Regulatory guide; withdrawal.

SUMMARY: The U.S. Nuclear Regulatory Commission (NRC) is withdrawing Regulatory Guide (RG) 8.23, “Radiation Safety Surveys at Medical Institutions.” RG 8.23 is being withdrawn because the NRC amended its regulations to remove certain prescriptive requirements regarding the types and frequencies of surveys. Therefore, the prescriptive guidance in RG 8.23 is no longer needed.

DATES: The withdrawal of RG 8.23 is applicable August 7, 2018.

ADDRESSES: Please refer to Docket ID NRC-2018-0162 when contacting the NRC about the availability of information regarding this document. You may access publicly-available information related to this document using any of the following methods:

• Federal Rulemaking Website: Go to http://www.regulations.gov and search for Docket ID NRC-2018-0162. Address questions about NRC dockets to Jennifer Borges; telephone: 301-287-9127; email: Jennifer.Borges@nrc.gov. For technical questions, contact the individuals listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The basis for withdrawal is located at ADAMS Accession No. ML18122A278. RG 8.23 is available at ADAMS Accession No. ML003739603.

• NRC's PDR: You may examine and purchase copies of public documents at the NRC's PDR, Room O1-F21, One White Flint North, 11555 Rockville Pike, Rockville, Maryland 20852.

FOR FURTHER INFORMATION CONTACT: Vered, Shaffer, telephone: 630-829-9862, email: Vered.Shaffer@nrc.gov, or Harriet Karagiannis, telephone: 301-415-2493, email: Harriet.Karagiannis@nrc.gov. Both are staff of the Office of Nuclear Regulatory Research, U.S. Nuclear Regulatory Commission, Washington, DC 20555-0001.

SUPPLEMENTARY INFORMATION: Regulatory Guide 8.23 was published in January 1981 to provide guidance on the types and frequencies of surveys that are acceptable to the NRC staff for use in medical institutions to comply with part 20 of title 10 of the Code of Federal Regulations (10 CFR), “Standards for Protection Against Radiation.”

The regulations in 10 CFR part 20 were revised after 1981 and became less prescriptive. As part of amending its regulations in 10 CFR part 20, several of the prescriptive survey requirements applicable to radiation protection programs were deleted. Therefore, the prescriptive guidance in RG 8.23 is no longer needed, and RG 8.23 is being withdrawn.

The NRC is withdrawing RG 8.23 because it is no longer needed. Withdrawal of a RG means that the guide no longer provides useful information or has been superseded by other guidance, technological innovations, congressional actions, or other events. The withdrawal of RG 8.23 does not alter any prior or existing NRC licensing approval or the acceptability of licensee commitments to RG 8.23. Although RG 8.23 is withdrawn, current licensees may continue to use it, and withdrawal does not affect any existing licenses or agreements. However, RG 8.23 should not be used in future requests or applications for NRC licensing actions.

Dated at Rockville, Maryland, this 1st day of August 2018.
For the Nuclear Regulatory Commission.
Thomas H. Boyce,
Chief, Regulatory Guidance and Generic Issues Branch, Division of Engineering, Office of Nuclear Regulatory Research.

[FR Doc. 2018-16830 Filed 8-6-18; 8:45 am]

BILLING CODE 7590-01-P